DEPARTMENT OF TRANSPORTATION

[Docket No. MARAD 2014 0088]

Agency Requests for Renewal of a Previously Approved Information Collection(s): Elements of Request for Course Approval

AGENCY: Maritime Administration, DOT.

ACTION: Notice and request for comments.

SUMMARY: The Department of Transportation (DOT) invites public comments about our intention to request the Office of Management and Budget (OMB) approval to renew an information collection. Under this voluntary collection, public and private maritime security training course providers may choose to provide the Maritime Administration (MARAD) with information concerning the content and operation of their courses. MARAD will use this information to evaluate whether the course meets the training standards and curriculum promulgated under Section 109 of the Maritime Transportation Security Act of 2002 (MTSA) (Pub. L. 107-295). Courses found to meet these standards will receive a course approval. We are required to publish this notice in the Federal Register by the Paperwork Reduction Act of 1995, Public Law 104-13.

DATES: Written comments should be submitted by August 25, 2014.

ADDRESSES: You may submit comments identified by Docket No. MARAD-2014-0088 through one of the following methods:

• Federal eRulemaking Portal: http://www.regulations.gov. Follow the online instructions for submitting comments.

• Mail or Hand Delivery: Docket Management Facility, U.S. Department of Transportation, 1200 New Jersey Avenue SE., West Building, Room W12-140, Washington, DC 20590, between 9 a.m. and 5 p.m., Monday through Friday, except on Federal holidays.

• Fax: 1-202-493-2251

FOR FURTHER INFORMATION CONTACT: Kimberly Brown, (202) 366-9363, Office of Security, Maritime Administration, U.S. Department of Transportation, 1200 New Jersey Avenue SE., Washington, DC 20590.

SUPPLEMENTARY INFORMATION: OMB Control Number: 2133-0535.

Title: Elements of Request for Course Approval.

Form Numbers: None.

Type of Review: Renewal of an information collection.

Background: Section 109 of the Maritime Transportation Security Act of 2002 (MTSA) (Pub. L. 107-295) required the Secretary of Transportation to develop “standards and curriculum to allow for the training and certification of maritime security professionals.” The Secretary of Transportation delegated this mandate to the Maritime Administration (MARAD) and the United States Merchant Marine Academy, which developed the required standards and curriculum. To assist parties implementing the education and training provisions of the MTSA, MARAD, in conjunction with the U.S. Coast Guard, developed a voluntary program of maritime security course approval. This program, in which course providers submit their course curricula and descriptions of their operations for review, provides a means through which providers may have their courses approved as incorporating the standards and curriculum developed under Section 109 of the MTSA.

Number of Respondents: 50.

Frequency: Occasionally.

Number of Responses: 75.

Total Annual Burden: 750.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: The Paperwork Reduction Act of 1995; 44 U.S.C. Chapter 35, as amended; and 49 CFR 1.93.

Dated: June 16, 2014.
Julie P. Agarwal,
Secretary, Maritime Administration.

[FR Doc. 2014-14796 Filed 6-24-14; 8:45 am]

BILLING CODE 4910-81-P